DEPARTMENT OF STATE

[Public Notice: 12626]

Gifts to Federal Employees From Foreign Government Sources Reported to Employing Agencies in Calendar Year 2023

All information reported to the Office of the Chief of Protocol, including gift appraisal and donor information, is the responsibility of the employing agency, in accordance with applicable law and GSA regulations.

The Office of the Chief of Protocol, Department of State, submits the following comprehensive listing of the statements which, as required by law, federal employees filed with their employing agencies during calendar year 2023 concerning gifts received from foreign government sources. The compilation includes reports of both tangible gifts and gifts of travel or travel expenses of more than minimal value, as defined in 5 U.S.C. 7432 and GSA regulations. For calendar year 2023 (January 1, 2023, through December 31, 2023), minimal value is $480.00.

Pursuant to Title 22 of the Code of Federal Regulations Section 3.4, the report includes all gifts given on a single occasion when the aggregate value of those gifts exceeds minimal value. Also included are twenty-three gifts from 2022 and one gift from 2021. These latter gifts are being reported in this year's report for calendar year 2023 because the Office of the Chief of Protocol, Department of State, did not receive the relevant information at the time of reporting to include them in earlier reports. Agencies not listed in this report either did not receive relevant gifts during the calendar year, did not transmit a listing to the Secretary of State of all statements filed during the preceding year by the employees of that agency pursuant to 5 U.S.C. 7432(f)(1), or did not respond to the State Department's Office of the Chief of Protocol's request for data. The U.S. Senate maintains an internal minimal value of $100; therefore, all gifts over the $100 limit are furnished in the U.S. Senate report.

Publication of this listing in the Federal Register is required by Section 7342(f) of Title 5, United States Code, as added by Section 515(a)(1) of the Foreign Relations Authorization Act, Fiscal Year 1978 (Pub. L. 95-105, August 17, 1977, 91 Stat. 865).

Alaina B. Teplitz,
Assistant Secretary (M), Performing the Duties of Under Secretary for Management, Department of State.

Agency: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Joseph R. Biden Jr., President of the United States | Glass Footed Bowl, Book Titled “The Government of Tongue”, Lapel Pin, Irish Hug Plaque. Rec'd—3/17/2022. Est. Value—$1,237.00. Disposition—Transferred to NARA. | His Excellency Micheál Martin, Taoiseach of Ireland | Non-acceptance would cause embarrassment to donor and U.S. Government.
The Honorable Joseph R. Biden Jr., President of the United States | Backpack, Playing Card Set, Montblanc Pen, Notebook, Various Food Items. Rec'd—6/26/2022. Est. Value—$975.00. Disposition—Transferred to NARA (Backpack, Cards, Pen, Notebook). Perishable items disposed of pursuant to USSS policies (Food Items). | His Excellency Olaf Scholz, Chancellor of the Federal Republic of Germany | Non-acceptance would cause embarrassment to donor and U.S. Government.
The Honorable Joseph R. Biden Jr., President of the United States | Rug in Velvet Case. Rec'd—10/20/2022. Est. Value—$525.00. Disposition—Transferred to NARA. | His Excellency Shehbaz Sharif, Prime Minister of the Islamic Republic of Pakistan | Non-acceptance would cause embarrassment to donor and U.S. Government.
The Honorable Joseph R. Biden Jr., President of the United States | Eye of Ugat Artwork. Rec'd—11/10/2022. Est. Value—$570.00. Disposition—Transferred to NARA. | His Excellency Abdel Fattah El-Sisi, President of the Arab Republic of Egypt | Non-acceptance would cause embarrassment to donor and U.S. Government.
The Honorable Joseph R. Biden Jr., President of the United States | Painting. Rec'd—11/15/2022. Est. Value—$1,000.00. Disposition—Transferred to NARA. | His Excellency Narendra Modi, Prime Minister of the Republic of India | Non-acceptance would cause embarrassment to donor and U.S. Government.
The Honorable Joseph R. Biden Jr., President of the United States | Beaded Necklace. Rec'd—12/12/2022. Est. Value—$440.00. Disposition—Transferred to NARA. | The Honorable Jane Waetara, Ambassador of the Solomon Islands to the United States | Non-acceptance would cause embarrassment to donor and U.S. Government.
The Honorable Joseph R. Biden Jr., President of the United States | Bronze Statue of Horseman. Rec'd—12/15/2022. Est. Value—$595.00. Disposition—Transferred to NARA. | His Excellency Paul Biya, President of the Republic of Cameroon | Non-acceptance would cause embarrassment to donor and U.S. Government.
The Honorable Joseph R. Biden Jr., President of the United States | Copper Artwork. Rec'd—12/15/2022. Est. Value—$620.00. Disposition—Transferred to NARA. | His Excellency Felix Tshisekedi, President of the Democratic Republic of Congo | Non-acceptance would cause embarrassment to donor and U.S. Government.
The Honorable Joseph R. Biden Jr., President of the United States | Cufflinks. Rec'd—12/15/2022. Est. Value—$2,000.00. Disposition—Transferred to NARA. | His Excellency Nana Akufo-Addo, President of the Republic of Ghana | Non-acceptance would cause embarrassment to donor and U.S. Government.
The Honorable Joseph R. Biden Jr., President of the United States | Book Titled “The Splendours of Tunisian Mosaics”, Ship Model, Traditional Sweets & Olive Oil. Rec'd—12/15/2022. Est. Value—$2,375.00. Disposition—Transferred to NARA. Perishable items retained for Official Use and/or disposed of pursuant to USSS policies (Sweets, Olive Oil). | His Excellency Kais Saied, President of the Republic of Tunisia | Non-acceptance would cause embarrassment to donor and U.S. Government.
The Honorable Joseph R. Biden Jr., President of the United States | Framed Paintings (qty. 2). Rec'd—12/16/2022. Est. Value—$500.00. Disposition—Transferred to NARA. | The Honorable Pravind Jugnauth, Prime Minister of the Republic of Mauritius | Non-acceptance would cause embarrassment to donor and U.S. Government.
The Honorable Joseph R. Biden Jr., President of the United States | “Virgin of Quito” Wood Statue. Rec'd—12/19/2022. Est. Value—$427.00. Disposition—Transferred to NARA. | His Excellency Juan Carlos Holguin, Minister of Foreign Affairs and Human Mobility of the Republic of Ecuador | Non-acceptance would cause embarrassment to donor and U.S. Government.
The Honorable Joseph R. Biden Jr., President of the United States | Tiled Painting. Rec'd—12/28/2022. Est. Value—$1,990.00. Disposition—Transferred to NARA. | His Excellency Ayman Benabderrahmane, Prime Minister of the People's Democratic Republic of Algeria | Non-acceptance would cause embarrassment to donor and U.S. Government.
The Honorable Joseph R. Biden Jr., President of the United States | Vase Set, Socks, Scarf, Blanket, Book, Scent Oil Infuser, Succulent Kit, Candle, Candies. Rec'd—1/3/2023. Est. Value—$829.00. Disposition—Transferred to NARA. (Vase Set, Socks, Scarf, Blanket, Book). Perishable items disposed of pursuant to USSS policies (Scent Oil, Infuser, Succulent Kit, Candle, Candies). | His Majesty Sultan Haji Hassanal Bolkiah Mu'izzaddin Waddaula Ibni Al-Marhum, Sultan and Yang Di-Pertuan of Brunei Darussalem | Non-acceptance would cause embarrassment to donor and U.S. Government.
The Honorable Joseph R. Biden Jr., President of the United States | Mother of Pearl Cufflinks. Rec'd—2/2/2023. Est. Value—$780.00. Disposition—Transferred to NARA. | His Majesty King Abdullah II ibn Al Hussein, King of the Hashemite Kingdom of Jordan | Non-acceptance would cause embarrassment to donor and U.S. Government.
The Honorable Joseph R. Biden Jr., President of the United States | Wooden Bench. Rec'd—2/10/2023. Est. Value—$1,170.00. Disposition—Transferred to NARA. | His Excellency Luiz Inacio Lula da Silva, President of the Federative Republic of Brazil | Non-acceptance would cause embarrassment to donor and U.S. Government.
The Honorable Joseph R. Biden Jr., President of the United States | Driza-Bone Coat. Rec'd—3/13/2023. Est. Value—$499.00. Disposition—Transferred to NARA. | The Honorable Anthony Albanese MP, Prime Minister Australia | Non-acceptance would cause embarrassment to donor and U.S. Government.
The Honorable Joseph R. Biden Jr., President of the United States | Sterling Silver Poporo, Wool Ruana. Rec'd—4/20/2023. Est. Value—$867.00. Disposition—Transferred to NARA. | His Excellency Gustavo Petro, President of the Republic of Colombia | Non-acceptance would cause embarrassment to donor and U.S. Government.
The Honorable Joseph R. Biden Jr., President of the United States | Commemorative Photo Album, Traditional Jarikki Set. Rec'd—4/26/2023. Est. Value—7,100.00. Disposition—Transferred to NARA. | His Excellency Suk Yeol Yoon, President of the Republic of Korea | Non-acceptance would cause embarrassment to donor and U.S. Government.
The Honorable Joseph R. Biden Jr., President of the United States | Jewelry Box. Rec'd—5/1/2023. Est. Value—$480.00. Disposition—Transferred to NARA. | His Excellency Ferdinand Romualdez Marcos, Jr., President of the Republic of Philippines | Non-acceptance would cause embarrassment to donor and U.S. Government.
The Honorable Joseph R. Biden Jr., President of the United States | Vase “Den” Lacquerware, Furoshiki. Rec'd—5/19/2023. Est. Value—$1,153.00. Disposition—Pending Transfer to NARA. | Hidehiko Yuzaki, Governor of Hiroshima Prefecture | Non-acceptance would cause embarrassment to donor and U.S. Government.
The Honorable Joseph R. Biden Jr., President of the United States | Drinking Set. Rec'd—5/19/2023. Est. Value—$1,070.00. Disposition—Transferred to NARA. | Kazumi Matsui, Mayor of Hiroshima Prefecture | Non-acceptance would cause embarrassment to donor and U.S. Government.
The Honorable Joseph R. Biden Jr., President of the United States | Framed Poster, Aircraft Fragment, Bilum Bag, “Birds of Paradise” Artwork, Shirt, Gold Pin, Coffee. Rec'd—5/22/2023. Est. Value—$1,254.00. Disposition—Retained for Official Use (Poster & Aircraft), Transferred to NARA. (Bag, Artwork, Shirt, Pin). Perishable items disposed of pursuant to USSS policies (Coffee). | His Excellency James Marape, MP, Prime Minister of Papua New Guinea | Non-acceptance would cause embarrassment to donor and U.S. Government.
The Honorable Joseph R. Biden Jr., President of the United States | “Iro-Miyabi” Fountain Pen, Maki-E Glasses, Furoshiki. Rec'd—5/23/2023. Est. Value—$2,414.00. Disposition—Transferred to NARA. | His Excellency Kishida Fumio, Prime Minister of Japan | Non-acceptance would cause embarrassment to donor and U.S. Government.
The Honorable Joseph R. Biden Jr., President of the United States | Carved Sandalwood Box, Book Titled “The Ten Principal Upanishads”, Statue, Oil Lamp. Rec'd—6/22/2023. Est. Value—$6,232.00. Disposition—Transferred to NARA. | His Excellency Narendra Modi, Prime Minister of the Republic of India | Non-acceptance would cause embarrassment to donor and U.S. Government.
The Honorable Joseph R. Biden Jr., President of the United States | “Sinews of Peace” Book, Jar of Honey. Rec'd—7/10/2023. Est. Value—$1,405.00. Disposition: Transferred NARA. (Book) Perishable items disposed of pursuant to USSS policies (Honey). | His Majesty King Charles III of the United Kingdom of Great Britain and Northern Ireland | Non-acceptance would cause embarrassment to donor and U.S. Government.
The Honorable Joseph R. Biden Jr., President of the United States | Glass Thomas Lyte Bowl. Rec'd—7/10/2023. Est. Value—$900.00. Disposition—Transferred to NARA. | The Right Honorable Rishi Sunak MP, Prime Minister of the United Kingdom of Great Britain and Northern Ireland | Non-acceptance would cause embarrassment to donor and U.S. Government.
The Honorable Joseph R. Biden Jr., President of the United States | Book, Order of Vyautas the Great, and Photographs. Rec'd—7/12/2023. Est. Value—$1,275.00. Disposition—Transferred to NARA. | His Excellency Gitanas Nauseda, President of the Republic of Lithuania | Non-acceptance would cause embarrassment to donor and U.S. Government.
The Honorable Joseph R. Biden Jr., President of the United States | Whooper Swan Sculpture. Rec'd—7/13/2023. Est. Value—$520.00. Disposition—Transferred to NARA. | His Excellency Sauli Niinistö and Dr. Jenni Haukio, President and First Lady of the Republic of Finland | Non-acceptance would cause embarrassment to donor and U.S. Government.
The Honorable Joseph R. Biden Jr., President of the United States | Sterling Silver Inscribed Tray by Hazorfim. Rec'd—7/18/2023. Est. Value—$3,160.00. Disposition—Pending Transfer to NARA. | His Excellency Isaac Herzog, President of the State of Israel | Non-acceptance would cause embarrassment to donor and U.S. Government.
The Honorable Joseph R. Biden Jr., President of the United States | Lacquer Box by Yamada Heiando. Rec'd—8/17/2023. Est. Value—$770.00. Disposition—Transferred to NARA. | His Excellency Kishida Fumio, Prime Minister of Japan | Non-acceptance would cause embarrassment to donor and U.S. Government.
The Honorable Joseph R. Biden Jr., President of the United States | Statue of Mongolian Warriors. Rec'd—8/2/2023. Est. Value—$3,495.00. Disposition—Transferred to NARA. | His Excellency Oyun-Erdene Luvsannamsrai, Prime Minister of the People's Republic of Mongolia | Non-acceptance would cause embarrassment to donor and U.S. Government.
The Honorable Joseph R. Biden Jr., President of the United States | Wooden Box, Chocolates, Cufflinks. Rec'd—8/29/2023. Est. Value—$515.00. Disposition—Transferred to NARA (Box, Cufflinks). Perishable items disposed of pursuant to USSS policies (Chocolates). | His Excellency Rodrigo Chaves Robles, President of the Republic of Costa Rica | Non-acceptance would cause embarrassment to donor and U.S. Government.
The Honorable Joseph R. Biden Jr., President of the United States | Gemstones Portrait. Rec'd—9/10/2023. Est. Value—$2,100.00. Disposition—Transferred to NARA. | His Excellency Nguyen Phu Trong, General Secretary of the Communist Party of the Socialist Republic of Vietnam | Non-acceptance would cause embarrassment to donor and U.S. Government.
The Honorable Joseph R. Biden Jr., President of the United States | Collage Titled “Qirim. Return”. Rec'd—9/20/2023. Est. Value—$2,400.00. Disposition—Transferred to NARA. | His Excellency Volodymyr Zelenskyy, President of Ukraine | Non-acceptance would cause embarrassment to donor and U.S. Government.
The Honorable Joseph R. Biden Jr., President of the United States | Mixed Media Artwork, Commemorative Tala, Siapo. Rec'd—9/24/2023. Est. Value—$570.00. Disposition—Transferred to NARA. | Her Excellency Fiame Naomi Mata'afa, Prime Minister of the Independent State of Samoa | Non-acceptance would cause embarrassment to donor and U.S. Government.
The Honorable Joseph R. Biden Jr., President of the United States | Silver Bowl. Rec'd—11/15/2023. Est. Value—3,300.00. Disposition—Transferred to NARA. | His Majesty Sultan Haji Hassanal Bolkiah Mu'izzaddin Waddaula Ibni Al-Marhum, Sultan and Yang Di-Pertuan of Brunei Darussalem | Non-acceptance would cause embarrassment to donor and U.S. Government.
The Honorable Joseph R. Biden Jr., President of the United States | Bone China Tea Set, Bronze Statue Titled “Fine Horse”. Rec'd—11/15/2023. Est. Value—$1,080.00. Disposition—Transferred to NARA. | His Excellency Xi Jinping, President of the People's Republic of China | Non-acceptance would cause embarrassment to donor and U.S. Government.
The Honorable Joseph R. Biden Jr., President of the United States | “Earth Vessel” Vase, Ice Cream Scoop. Rec'd—11/17/2023. Est. Value—$600.00. Disposition—Transferred to NARA. | The Right Honorable Justin Trudeau, P.C., M.P., Prime Minister of Canada | Non-acceptance would cause embarrassment to donor and U.S. Government.
The Honorable Joseph R. Biden Jr., President of the United States | Oil Painting Titled “Suasana Desa”. Rec'd—12/13/2023. Est. Value—$635.00. Disposition—Transferred to NARA. | His Excellency Joko Widodo, President of the Republic of Indonesia | Non-acceptance would cause embarrassment to donor and U.S. Government.
The Honorable Joseph R. Biden Jr., President of the United States and Dr. Jill Biden, First Lady of the United States | Ceramic plate, Wine Bottles (Qty. 2), Fruit. Rec'd—1/8/2023. Est. Value—$550.00. Disposition—Transferred to NARA (Plate). Perishable items disposed of pursuant to USSS policies (Wine, Fruit). | His Excellency Andrés Manuel López Obrador, President of the United Mexican States | Non-acceptance would cause embarrassment to donor and U.S. Government.
The Honorable Joseph R. Biden Jr., President of the United States, Dr. Jill Biden, First Lady of the United States of America | Footed Bowl, Irish Flag, Jersey, Pin. Rec'd—3/17/2023. Est. Value—$1,302.00. Disposition—Transferred to NARA. | His Excellency Leo Varadkhar, Taoiseach of Ireland | Non-acceptance would cause embarrassment to donor and U.S. Government.
The Honorable Joseph R. Biden Jr., President of the United States, Dr. Jill Biden, First Lady of the United States of America | Moon Jar, Gujeolpan. Rec'd—4/26/2023. Est. Value—$1,760.00. Disposition—Transferred to NARA (Jar). Perishable items disposed of pursuant to USSS policies (Gujeolpan). | His Excellency Suk Yeol Yoon, President of the Republic of Korea | Non-acceptance would cause embarrassment to donor and U.S. Government.
The Honorable Joseph R. Biden Jr., President of the United States, Dr. Jill Biden, First Lady of the United States of America | Wine, Handkerchiefs (Qty. 2). Rec'd—8/25/2023. Est. Value—$686.00. Disposition—Transferred to NARA (Jar and Handkerchiefs). Perishable items disposed of pursuant to USSS policies (Wine). | His Excellency Miguel Filipe Machado De Albuquerque, President of the Autonomous Region of Madeira | Non-acceptance would cause embarrassment to donor and U.S. Government.
Dr. Jill Biden | Bronze Statue of Horseman. Rec'd—12/15/2022. Est. Value—$595.00. Disposition—Transferred to NARA. | Mrs. Chantal Biya, First Lady of the Republic of Cameroon | Non-acceptance would cause embarrassment to donor and U.S. Government.
Dr. Jill Biden | Pair of Bangles. Rec'd—12/16/2022. Est. Value—$3,400.00. Disposition—Transferred to NARA. | His Excellency Mohamed Younis A. Menfi, Chairman of the Presidential Council of the State of Libya | Non-acceptance would cause embarrassment to donor and U.S. Government.
Dr. Jill Biden | Scarf, Book Titled “Carthage—Fact and Myth”, Sculpture, Traditional Sweets. Rec'd—12/16/2022. Est. Value—$3,015.00. Disposition—Transferred to NARA (Scarf, Book, Sculpture). Perishable items disposed of pursuant to USSS policies (Traditional Sweets). | Mrs. Ichraf Chebil Ep Saied, First Lady of the Republic of Tunisia | Non-acceptance would cause embarrassment to donor and U.S. Government.
Dr. Jill Biden | Eye of Horus Necklace, Egyptian Wood Inlaid Shell Purse. Rec'd—1/22/2023. Est. Value—$2,000.00. Disposition—Transferred to NARA. | Mrs. Entissar El-Sisi, First Lady of the Arab Republic of Egypt | Non-acceptance would cause embarrassment to donor and U.S. Government.
Dr. Jill Biden | Wooden Bowl with Tiered Artwork. Rec'd—2/2/2023. Est. Value—$750.00. Disposition—Transferred to NARA. | Her Majesty Queen Rania Al Abdullah, Queen of the Hashemite Kingdom of Jordan | Non-acceptance would cause embarrassment to donor and U.S. Government.
Dr. Jill Biden | Steel Fragment Forget-Me-Not Flower Brooch. Rec'd—2/7/2023. Est. Value—$14,063.00. Disposition—Retained for Official Use in the East Wing. | Her Excellency Oksana Markarova, Ambassador of Ukraine to the United States | Non-acceptance would cause embarrassment to donor and U.S. Government.
Dr. Jill Biden | Book Titled “Epic Land Namibia Exposed”, Silver Earrings, Silver Bracelet. Rec'd—2/23/2023. Est. Value—$519.00. Disposition—Transferred to NARA. | Her Excellency Monica Geingos, First Lady of the Republic of Namibia | Non-acceptance would cause embarrassment to donor and U.S. Government.
Dr. Jill Biden | Swarovski Necklace, Earrings, Ring. Rec'd—4/19/2023. Est. Value—$1,370.00. Disposition—Transferred to NARA. | Her Excellency Petra Schneebauer, Ambassador of Austria to the United States | Non-acceptance would cause embarrassment to donor and U.S. Government.
Dr. Jill Biden | Brown Lip Shell Jewelry Box. Rec'd—5/1/2023. Est. Value—$480.00. Disposition—Transferred to NARA. | Mrs. Louise Araneta-Marcos, First Lady of the Republic of the Philippines | Non-acceptance would cause embarrassment to donor and U.S. Government.
Dr. Jill Biden | Binoculars, Bowl and Spoon Set, Champagne Flute. Rec'd—5/23/2023. Est. Value—$542.00. Disposition—Transferred to NARA. | Mrs. Kishida Yuko, Spouse of the Prime Minister of Japan | Non-acceptance would cause embarrassment to donor and U.S. Government.
Dr. Jill Biden | Incense Burner, Candy Jar. Rec'd—5/30/2023. Est. Value—$1,160.00. Disposition—Transferred to NARA. | Their Royal Highnesses Prince Hussein bin Abdallah II & Princess Rajwa Al Hussein, Crown Prince of the Hashemite Kingdom of Jordan | Non-acceptance would cause embarrassment to donor and U.S. Government.
Dr. Jill Biden | Chairs, Brooch, Photograph Album, Bracelet. Rec'd—6/2/2023. Est. Value—$4,510.00. Disposition—Transferred to NARA (Chairs, Photograph Album, Bracelet), Retained for Personal Use (Brooch). | His Excellency Abdel Fattah and Mrs. Entissar El-Sisi, President and First Lady of the Arab Republic of Egypt | Non-acceptance would cause embarrassment to donor and U.S. Government.
Dr. Jill Biden | Calligraphy Titled “The Ship in the Sky”, by Ms. Sugako Hamazaki. Rec'd—6/13/2023. Est. Value—$2,500.00. Disposition—Retained for Official Use in the East Wing. | Mrs. Kishida Yuko, Spouse of the Prime Minister of Japan | Non-acceptance would cause embarrassment to donor and U.S. Government.
Dr. Jill Biden | 7.5 Carat Lab Diamond. Rec'd—6/22/2023. Est. Value—$20,000.00. Disposition—Retained for Official Use in the East Wing. | His Excellency Narendra Modi, Prime Minister of the Republic of India | Non-acceptance would cause embarrassment to donor and U.S. Government.
Dr. Jill Biden | Canisters (Qty. 3). Rec'd—9/13/2023. Est. Value—$980.00. Disposition—Transferred to NARA. | Their Majesties King Abdullah II ibn Al Hussein and Queen Rania Al Abdullah of the Hashemite Kingdom of Jordan | Non-acceptance would cause embarrassment to donor and U.S. Government.
Dr. Jill Biden | Table Runner, Brooch. Rec'd—9/13/2023. Est. Value—$490.00. Disposition—Pending Transfer to NARA. | Mrs. Emine Erdoğan, First Lady of the Republic of Turkiye | Non-acceptance would cause embarrassment to donor and U.S. Government.
Dr. Jill Biden | Delvaux Pouch. Rec'd—9/20/2023. Est. Value—$1,050.00. Disposition—Transferred to NARA. | Mrs. Annik Penders, Spouse of the Prime Minister of the Kingdom of Belgium | Non-acceptance would cause embarrassment to donor and U.S. Government.
Dr. Jill Biden | Joanna Louca Scarf. Rec'd—9/20/2023. Est. Value—$750.00. Disposition—Transferred to NARA. | Mrs. Philippa Karsera Christodoulides, First Lady of the Republic of Cyprus | Non-acceptance would cause embarrassment to donor and U.S. Government.
Dr. Jill Biden | Zeus+Dione Blouse. Rec'd—9/20/2023. Est. Value—$570.00. Disposition—Transferred to NARA. | Mrs. Mareva Grabowski Mitsotakis, Spouse of the Prime Minister of the Hellenic Republic | Non-acceptance would cause embarrassment to donor and U.S. Government.
Dr. Jill Biden | Keyth Beauty Products, Blanket. Rec'd—11/17/2023. Est. Value—$554.00. Disposition—Perishable items disposed of pursuant to USSS policies (Beauty Products, Blanket). | Mrs. Kim Keon Hee, First Lady of the Republic of Korea | Non-acceptance would cause embarrassment to donor and U.S. Government.
Dr. Jill Biden | “Blooming Roses” Porcelain Plate. Rec'd—11/15/2023. Est. Value—$485.00. Disposition—Transferred to NARA. | His Excellency Xi Jinping, President of the People's Republic of China | Non-acceptance would cause embarrassment to donor and U.S. Government.
The Honorable Jacob Sullivan, Assistant to the President for National Security Affairs | Metal Statue of Wildebeest. Rec'd—12/12/2022. Est. Value—2,100.00. Disposition—Pending transfer to GSA. | The Honorable Monica Juma, National Security Advisor for the Republic of Kenya | Non-acceptance would cause embarrassment to donor and U.S. Government.
The Honorable Jacob Sullivan, Assistant to the President for National Security Affairs | Silver Jaguar Statue. Rec'd—1/31/2023. Est. Value—$485.00. Disposition—Pending transfer to GSA. | His Excellency Ajit Doval, National Security Advisor of the Republic of India | Non-acceptance would cause embarrassment to donor and U.S. Government.
The Honorable Jacob Sullivan, Assistant to the President for National Security Affairs | Wooden Elephant Sculpture. Rec'd—7/1/2023. Est. Value—$638.00. Disposition—Pending transfer to GSA. | His Excellency Ajit Doval, National Security Advisor of the Republic of India | Non-acceptance would cause embarrassment to donor and U.S. Government.
The Honorable Jacob Sullivan, Assistant to the President for National Security Affairs | Grand Cross of Commander of the Order for Merits to Lithuania. Rec'd—7/12/2023. Est. Value—$975.00. Disposition—Pending transfer to GSA. | His Excellency Gitanas Nauseda, President of the Republic of Lithuania | Non-acceptance would cause embarrassment to donor and U.S. Government.
The Honorable Jacob Sullivan, Assistant to the President for National Security Affairs | William & Son Clock. Rec'd—11/14/2023. Est. Value—$1,600.00. Disposition—Pending transfer to GSA. | His Royal Highness Salman Bin Hamad Al Khalifa, Crown Prince and Prime Minister of the Kingdom of Bahrain | Non-acceptance would cause embarrassment to donor and U.S. Government.
The Honorable Elizabeth Sherwood-Randall, Assistant to the President and Homeland Security Advisor | Tea Set. Rec'd—3/22/2023. Est. Value—$900.00. Disposition—Pending transfer to GSA. | His Excellency Javlon Vakhabov, Ambassador of the Republic of Uzbekistan to the United States and Canada | Non-acceptance would cause embarrassment to donor and U.S. Government.
The Honorable Elizabeth Sherwood-Randall, Assistant to the President and Homeland Security Advisor | Silver Elephant Sculpture. Rec'd—9/23/2022. Est. Value—$3,980.00. Disposition—Pending transfer to GSA. | Mr. Rajinder Khanna, Deputy National Security Advisor & Secretary of the Republic of India | Non-acceptance would cause embarrassment to donor and U.S. Government.
The Honorable Jonathan Finer, Assistant to the President and Principal Deputy National Security Advisor | Framed Gold-Tone Disc. Rec'd—3/30/2023. Est. Value—$590.00. Disposition—Pending transfer to GSA. | Mr. Kamchybek Tashiev, Chairman of the State Committee for National Security of the Kyrgyz Republic | Non-acceptance would cause embarrassment to donor and U.S. Government.
The Honorable Kurt Campbell, Deputy Assistant to the President and Coordinator for Indo-Pacific Affairs | Wall Hanging. Rec'd—8/1/2023. Est. Value—$850.00. Disposition—Pending transfer to GSA. | His Excellency Narendra Modi, Prime Minister of the Republic of India | Non-acceptance would cause embarrassment to donor and U.S. Government.
The Honorable Brett McGuirk, Deputy Assistant to the President and Coordinator for Middle East and North Africa | William & Son Clock. Rec'd—11/14/2023. Est. Value—$1,600.00. Disposition—Pending transfer to GSA. | His Royal Highness Salman Bin Hamad Al Khalifa, Crown Prince and Prime Minister of the Kingdom of Bahrain | Non-acceptance would cause embarrassment to donor and U.S. Government.
The Honorable Anne Neuberger, Deputy Assistant to the President and Deputy National Security Advisor for Cyber & Emerging Technology | Silver Candlestick, Silver Picture Frame. Rec'd—7/1/2022. Est. Value—$515.00. Disposition—Pending transfer to GSA. | Mr. Rajinder Khanna, Deputy National Security Advisor & Secretary of the Republic of India | Non-acceptance would cause embarrassment to donor and U.S. Government.
The Honorable Eileen Laubacher, Special Assistant to the President and Senior Director for South Asia | Traditional Rug. Rec'd—2/9/2023. Est. Value—$600.00. Disposition—Pending transfer to GSA. | His Excellency Masood Khan, Ambassador of the Islamic Republic of Pakistan to the United States | Non-acceptance would cause embarrassment to donor and U.S. Government.
The Honorable Nicholas Berliner, Special Assistant to the President and Director for Russia | Uzbek Hat, Cookbook, 2 Silk Fabrics, Coin and Pin Set, Plate. Rec'd—4/5/2023. Est. Value—$837.00. Disposition—Pending transfer to GSA. | His Excellency Javlon Vakhabov, Ambassador of the Republic of Uzbekistan to the United States and Canada | Non-acceptance would cause embarrassment to donor and U.S. Government.
The Honorable Adam Farrar, Special Advisor for East Asia and Oceania | Wristwatches (Qty. 2) by Kono Corporation. Rec'd—6/27/2022. Est. Value—$740.00. Disposition—Pending transfer to GSA. | The Government of the Republic of Korea | Non-acceptance would cause embarrassment to donor and U.S. Government.
Ms. Naomi Biden | Embroidery Screen. Rec'd -11/14/2022. Est. Value—$510.00. Disposition—Pending transfer to GSA. | His Excellency Xi Jinping, President of the People's Republic of China | Non-acceptance would cause embarrassment to donor and U.S. Government.
Ms. Naomi Biden | Jewelry Holder, Napkin Rings, Magnet, Linen Napkins and Placemats, Wooden Utensils, Backpack, Book, Table Runner, Tote Bag. Rec'd—2/23/2023. Est. Value—$566.00. Disposition—Retained for Personal Use (Rings, Linens, Wooden Utensils, Book, Tote Bag), Transferred to NARA (Jewelry Holder, Magnet, Backpack, Book, Table Runner). | Her Excellency Monica Geingos, First Lady of the Republic of Namibia | Non-acceptance would cause embarrassment to donor and U.S. Government.
Ms. Ashley Biden | Silver Necklace, Silver Bracelet. Rec'd—5/30/2023. Est. Value—$1,395.00. Disposition—Transferred to NARA. | His Excellency Abdel Fattah and Mrs. Entissar El-Sisi, President & First Lady of the Arab Republic of Egypt | Non-acceptance would cause embarrassment to donor and U.S. Government.

AGENCY: The Executive Office of the Vice President
[Report of Tangible Gifts Furnished by the Executive Office of the Vice President]
Name and title of person accepting the gift on behalf of the U.S. Government | Gift, date of acceptance on behalf of the U.S. Government, estimated value, and current disposition or location | Identity of foreign donor and government | Circumstances justifying acceptance
The Honorable Kamala D. Harris, Vice President of the United States | Kente Cloth, Necklace, Bracelet. Rec'd—3/28/2023. Est. Value—$600.00. Disposition—Transferred to NARA. | His Excellency Dr. Mahamudu Bawumia, Vice President of the Republic of Ghana | Non-acceptance would cause embarrassment to donor and U.S. Government.
The Honorable Kamala D. Harris, Vice President of the United States | Dress from The Lotte. Rec'd—3/28/2023. Est. Value—$580.00. Disposition—Transferred to NARA. | Mrs. Rebecca Naa Okaikor Akufo-Addo, First Lady of The Republic of Ghana | Non-acceptance would cause embarrassment to donor and U.S. Government.
The Honorable Kamala D. Harris, Vice President of the United States | Kente Dress, Jacket, Bracelet. Rec'd—3/28/2023. Est. Value—$536.00. Disposition—Transferred to NARA. | His Excellency Nana Akufo-Addo, President of the Republic of Ghana | Non-acceptance would cause embarrassment to donor and U.S. Government.
The Honorable Kamala D. Harris, Vice President of the United States | Two Kente Cloth Shawls, Flip Flops, Necklace, Earrings. Rec'd—3/28/2023. Est. Value—$795.00. Disposition—Transferred to NARA. | The Chiefs and People of Cape Coast, Republic of Ghana | Non-acceptance would cause embarrassment to donor and U.S. Government.
The Honorable Kamala D. Harris, Vice President of the United States | Jewelry with Tanzanian Gemstones, Ujamaa Wood Carving. Rec'd—3/30/2023. Est. Value—$2,550.00. Disposition—(Jewelry)Transferred to NARA. (Ujamaa Wood Carving) Retain for Official Display. | Her Excellency Samia Suluhu Hassan, President of the United Republic of Tanzania | Non-acceptance would cause embarrassment to donor and U.S. Government.
The Honorable Kamala D. Harris, Vice President of the United States | Photo Album of Vice President Kamala Harris's Visit to Zambia, Gold Brooch in the Shape of Africa with Tanzanite and Zambian Emerald, Wooden Carved Sculpture of Person, Playing an Instrument, Two Cloths, Painting of an Elephant. Rec'd—3/31/2023. Est. Value—$4,025.00. Disposition—(Photo Album) Pending Transfer to NARA. (Gold Brooch, Wooden Carved Sculpture, and Painting) Transferred to NARA. | His Excellency Hakainde Hichilema, President of the Republic of Zambia | Non-acceptance would cause embarrassment to donor and U.S. Government.
The Honorable Kamala D. Harris, Vice President of the United States | Tiger Pen Shell with Caraboa Horn Handle. Rec'd—5/1/2023. Est. Value—$645.00. Disposition—Transferred to NARA. | His Excellency Ferdinand R. Marcos, Jr., President of the Republic of the Philippines | Non-acceptance would cause embarrassment to donor and U.S. Government.
The Honorable Kamala D. Harris, Vice President of the United States | A Painting by Kartika Affandi “Flowers”, A Stola Scarf, A Conference Kit. Rec'd—9/8/2023. Est. Value—$830.00. Disposition—Transferred to NARA. | Dr. Kao Kim Hourn, Secretary-General of Association of Southeast Asian Nations (ASEAN) | Non-acceptance would cause embarrassment to donor and U.S. Government.
The Honorable Kamala D. Harris, Vice President of the United States | Silver Metal Bowl with Lid in Presentation Case. Rec'd—11/16/2023. Est. Value—$780.00. Disposition—Transferred to NARA. | The Government of Brunei Darussalam | Non-acceptance would cause embarrassment to donor and U.S. Government.

AGENCY: Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Antony J. Blinken, Secretary of State | Three Photographs from the Centropa Project & Book: Best of Austropop. Rec'd—2/7/2023. Est. Value—$600.00. Disposition—Transferred to GSA. | His Excellency Alexander Schallenberg Minister of Foreign Affairs of the Republic of Austria | Non-acceptance would cause embarrassment to donor and U.S. Government.
The Honorable Antony J. Blinken, Secretary of State | Framed Acrylic Artwork in Wooden Case. Rec'd—2/14/2023. Est. Value—$1,000.00. Disposition—Retained for Official Use. | His Highness Sheikh Abdullah bin Zayed Al Nahyan Minister of Foreign Affairs of the United Arab Emirates | Non-acceptance would cause embarrassment to donor and U.S. Government.
The Honorable Antony J. Blinken, Secretary of State | Chess Set with Natural Marble Board and Silver-plated Chess Pieces. Rec'd—2/28/2023. Est. Value—$1,200.00. Disposition—Pending Transfer to GSA. | His Excellency Shavkat Mirziyoyev President of the Republic of Uzbekistan | Non-acceptance would cause embarrassment to donor and U.S. Government.
The Honorable Antony J. Blinken, Secretary of State | Acrylic Landscape Portrait on Canvas. Rec'd—7/20/2023. Est. Value—$4,000.00. Disposition—Transferred to GSA. | His Excellency Dr. Abdul Latif bin Rashid Al Zayani Minister of Foreign Affairs of the Kingdom of Bahrain | Non-acceptance would cause embarrassment to donor and U.S. Government.
The Honorable Linda Thomas-Greenfield, United States Representative to the United Nations | Red Leather Suitcase, Official FIFA Handover Soccer Ball, Brass Stand, Commemorative FIFA Medal/Coins, 21k Cuff Bracelet, FIFA Stadiums Engraved Cubes, Kashmiri Embroidered Scarf, Silver Burqa Mask, Perfume, Midkhan Incense Burner, and Agarwood. Rec'd—5/25/2023. Est. Value—$1,070.00. Disposition—Pending Purchase through GSA. | His Highness Sheikh Tamim bin Hamad Al Thani Amir of the State of Qatar | Non-acceptance would cause embarrassment to donor and U.S. Government.
The Honorable John Kerry, Special Presidential Envoy for Climate | Painting. Rec'd—11/1/2023. Est. Value—$511.60. Disposition—Transferred to GSA. | His Excellency Joko Widodo, President of the Republic of Indonesia | Non-acceptance would cause embarrassment to donor and U.S. Government.
The Honorable Leslie M. Tsou, United States Ambassador to Oman | 1 Wooden Box of Amouage Fragrances, 1 Bottle of Amouage Perfume (women), 2 Bottles of Amouage Perfume (men), 1 Silver Jewelry Set, 1 Silver Letter Opener, Key Ring, and Cufflinks. Rec'd—2/26/2023. Est. Value—$2,748.22. Disposition—Transferred to GSA. | His Excellency MG Nassir Saleh Al-Mawali, Secretary General of Liaison and Coordination, Sultanate of Oman | Non-acceptance would cause embarrassment to donor and U.S. Government.
The Honorable Leslie M. Tsou, United States Ambassador to Oman | 1 Kilo of Hojary Frankincense, 1 Silver Mabkhar, Engraved Box. Rec'd—2/27/2023. Est. Value—$676.00. Disposition—Transferred to GSA. | General Sultan bin Mohammed Al-Naamani, Minister of the Royal Office, Sultanate of Oman | Non-acceptance would cause embarrassment to donor and U.S. Government.
The Honorable Leslie M. Tsou, United States Ambassador to Oman | Decorative Box with Frankincense and Khanjar. Rec'd—3/9/2023. Est. Value—$544.00. Disposition—Transferred to GSA. | His Excellency Mohamed Said Khalfan Al Mamari Minister of Endowment and Religious Affairs, Sultanate of Oman | Non-acceptance would cause embarrassment to donor and U.S. Government.
The Honorable Leslie M. Tsou, United States Ambassador to Oman | 2 Bottles of Amouage of Perfume. Rec'd—3/12/2023. Est. Value—$720.00. Disposition—Transferred to GSA. | His Excellency Mohammed Al Zaabi, Secretary General of Ministry of Defense, Sultanate of Oman | Non-acceptance would cause embarrassment to donor and U.S. Government.
The Honorable Leslie M. Tsou, United States Ambassador to Oman | Silver and Gold Vase, Daggar Form Letter Opener. Rec'd—3/19/2023. Est. Value—$3,124.88. Disposition—Transferred to GSA. | His Excellency Sayyid Badr bin Hamad bin Hamood Albusaidi, Foreign Minister of the Sultanate of Oman | Non-acceptance would cause embarrassment to donor and U.S. Government.
The Honorable Leslie M. Tsou, United States Ambassador to Oman | Silver Mabkhar and Silver Bangle. Rec'd—3/19/2023. Est. Value—$702.00. Disposition—Transferred to GSA. | His Excellency Sayyid Asaad Bin Tarik Bin Taimur Al-Said, Deputy Prime Minister and Personal Representative of the Sultan of the Sultanate of Oman | Non-acceptance would cause embarrassment to donor and U.S. Government.
The Honorable Jonathan Henick, United States Ambassador to Uzbekistan | Cultural Legacy of Uzbekistan in the World Collection—50-Volume Set of Blue Leather Bound Books Oty: 3. Rec'd—5/19/2023. Est. Value—$3,750.00. Disposition—Retained for Official Use. | Mr. Dilshod Rasulov, Cultural Heritage Agency of Uzbekistan | Non-acceptance would cause embarrassment to donor and U.S. Government.
Mr. Junaid Munir, United States Deputy Chief of Mission to the Sultanate of Oman | Ebony Wood Box, Amouage Four Perfume Set, Amouage Enclave, Amouage Crimson Rocks, Amouage Ashore, and Amouage Meander. Rec'd—7/6/2023. Est. Value—$700.00. Disposition—Transferred to GSA. | Major General Idris Al Kindi, National Security Council, Sultanate of Oman | Non-acceptance would cause embarrassment to donor and U.S. Government.

Agency: Department of Justice
[Report of Tangible Gifts and Gifts of Travel Furnished by the Department of Justice]
Name and title of person accepting the gift on behalf of the U.S. Government | Gift, date of acceptance on behalf of the U.S. Government, estimated value, and current disposition or location | Identity of foreign donor and government | Circumstances justifying acceptance
Ms. Julie Younts Assistant Chief Inspector, Asset Forfeiture Division for the Criminal Division | GIFT OF TRAVEL: Travel to European Union through the Camden Asset Recovery Inter-agency Network (CARIN) in Brussels, Belgium. Est. $3,855.00. Rec'd—4/30/2023—5/5/2023. | European Union through the Camden Asset Recovery Inter-Agency Network (CARIN) | Non-acceptance would cause embarrassment.
Hon. Bruce C. Swartz, Deputy Assistant Attorney General and DOJ Counselor for International Affairs | GIFT OF TRAVEL: Two Nights of Lodging. Est. $816.55. Rec'd—7/6/2023. | Government of Japan G7 Interior Ministerial | Non-acceptance would cause embarrassment.
Hon. Bruce C. Swartz, Deputy Assistant Attorney General and DOJ Counselor for International Affairs | GIFT OF TRAVEL: Two Nights of Lodging. Est. $521.64. Rec'd—12/8/2023. | Government of Japan G7 Interior Ministerial | Non-acceptance would cause embarrassment.

Agency: Central Intelligence Agency
[Report of Tangible Gifts and Gifts of Travel Furnished by the Central Intelligence Agency]
Name and title of person accepting the gift on behalf of the U.S. Government | Gift, date of acceptance on behalf of the U.S. Government, estimated value, and current disposition or location | Identity of foreign donor and government | Circumstances justifying acceptance
The Honorable William Burns, Director of the Central Intelligence Agency | Rug. Rec'd—1/26/2023. Est. Value—$500.00. Disposition—Transferred to GSA. | 5 U.S.C. 7342(f)(4) | Non-acceptance would cause embarrassment to donor and U.S. Government.
The Honorable William Burns, Director of the Central Intelligence Agency | Omega Watch. Rec'd—2/2/2023. Est. Value—$11,000.00. Disposition—Destroyed. | 5 U.S.C. 7342(f)(4) | Non-acceptance would cause embarrassment to donor and U.S. Government.
The Honorable William Burns, Director of the Central Intelligence Agency | Ceremonial Sword, Bischt. Rec'd—2/2/2023. Est. Value—$550.00. Disposition—Mission Display. | 5 U.S.C. 7342(f)(4) | Non-acceptance would cause embarrassment to donor and U.S. Government.
The Honorable William Burns, Director of the Central Intelligence Agency | Alcohol, Watch. Rec'd—2/23/2023. Est. Value—$875.00. Disposition -Destroyed. | 5 U.S.C. 7342(f)(4) | Non-acceptance would cause embarrassment to donor and U.S. Government.
The Honorable William Burns, Director of the Central Intelligence Agency | Astrograph. Rec'd—4/4/2023. Est. Value—$18,600.00. Disposition—Pending transfer to GSA. | 5 U.S.C. 7342(f)(4) | Non-acceptance would cause embarrassment to donor and U.S. Government.
The Honorable William Burns, Director of the Central Intelligence Agency | Port, Cufflinks, and Plaque. Rec'd—11/2/2023. Est. Value—$875.00. Disposition—Port—Destroyed Cufflinks—Transferred to GSA (Pending) Plaque—Destroyed. | 5 U.S.C. 7342(f)(4) | Non-acceptance would cause embarrassment to donor and U.S. Government.
An Agency Employee | Wood Carved Chess Set, Persian Rug, Shadow Box, Books. Rec'd—9/28/2023. Est. Value—$2,000.00. Disposition—Mission Display. | 5 U.S.C. 7342(f)(4) | Non-acceptance would cause embarrassment to donor and U.S. Government.
An Agency Employee | Montblanc Explorer, Montblanc Meisterstuck Pocket, Montblanc Fine Stationary Notebook, Montblanc Blue Soft Grain Cosmetic Case, Montblanc Starwalker Precious Resin Ballpoint Pen. Rec'd—2/3/2023. Est. Value—$963.00. Disposition—Destroyed. | 5 U.S.C. 7342(f)(4) | Non-acceptance would cause embarrassment to donor and U.S. Government.
An Agency Employee | Montblanc Explorer, Montblanc Meisterstuck Pocket, Montblanc Fine Stationary Notebook, Montblanc Blue Soft Grain Cosmetic Case, Montblanc Starwalker Precious Resin Ballpoint Pen. Rec'd—2/4/2023. Est. Value—$963.00. Disposition—Destroyed. | 5 U.S.C. 7342(f)(4) | Non-acceptance would cause embarrassment to donor and U.S. Government.
An Agency Employee | Tsikolia Brand Georgian Defense Forces Watch. Rec'd—2/10/2023. Est. Value—$543.00. Disposition—Retaining for Personal Use (Pending Purchase with GSA). | 5 U.S.C. 7342(f)(4) | Non-acceptance would cause embarrassment to donor and U.S. Government.
An Agency Employee | Challenge Coin, iPhone 14 Max Pro, Oud Fragrance. Rec'd—3/20/2023. Est. Value—$1,369.00. Disposition—Phone Destroyed, Oud on Mission Display. | 5 U.S.C. 7342(f)(4) | Non-acceptance would cause embarrassment to donor and U.S. Government.
An Agency Employee | Box of Four Fragrances from Penhaligon's “Portrait Series”. Rec'd—3/22/2023. Est. Value—$1,240.00. Disposition—Destruction Pending. | 5 U.S.C. 7342(f)(4) | Non-acceptance would cause embarrassment to donor and U.S. Government.
An Agency Employee | 6 Tickets to Meydan World Cup Horse Race and 3 Parking Passes. Rec'd—3/24/2023. Est. Value—$1,536.00. Disposition—Official Use. | 5 U.S.C. 7342(f)(4) | Non-acceptance would cause embarrassment to donor and U.S. Government.
An Agency Employee | Rolex Oyster DateJust, 41mm, Oystersteel, Green. Rec'd—4/15/2023. Est. Value—$8,100.00. Disposition—Official Use. | 5 U.S.C. 7342(f)(4) | Non-acceptance would cause embarrassment to donor and U.S. Government.
An Agency Employee | A Rado Captain Cook Men's Wristwatch. Rec'd—4/15/2023. Est. Value—$2,000.00. Disposition—Destroyed. | 5 U.S.C. 7342(f)(4) | Non-acceptance would cause embarrassment to donor and U.S. Government.
An Agency Employee | Morsel Chocolates—Al Khubeirah. Rec'd—4/17/2023. Est. Value—$776.10. Disposition—Official Use. | 5 U.S.C. 7342(f)(4) | Non-acceptance would cause embarrassment to donor and U.S. Government.
An Agency Employee | Omega Seamaster Aqua Terra Watch, Ladies Omega Constellation 31mm, Diamond Necklace, Earring Bracelet, and Ring. Rec'd—5/19/2023. Est. Value—$65,100.00. Disposition—Destroyed. | 5 U.S.C. 7342(f)(4) | Non-acceptance would cause embarrassment to donor and U.S. Government.
An Agency Employee | Mont Blanc Meisterstuck Document Case. Rec'd—5/28/2023. Est. Value—$1,265.00. Disposition—Official Use. | 5 U.S.C. 7342(f)(4) | Non-acceptance would cause embarrassment to donor and U.S. Government.
An Agency Employee | Cohiba Maduro Secretos (Box of 25). Rec'd—5/30/2023. Est. Value—$5,000.00. Disposition—Mission Display. | 5 U.S.C. 7342(f)(4) | Non-acceptance would cause embarrassment to donor and U.S. Government.
An Agency Employee | Amouage Perfume Chapter III Escape Collection. Rec'd—5/31/2023. Est. Value—$10,670.00. Disposition—Destruction Pending. | 5 U.S.C. 7342(f)(4) | Non-acceptance would cause embarrassment to donor and U.S. Government.
An Agency Employee | Amouage Perfume/Cologne—Crimson Rocks, Opus XIV Royal, Frederique Constant Highlife Automatic Chronometer watch, Bag of Frankincense. Rec'd—6/8/2023. Est. Value—$2,940.00. Disposition—Destruction Pending. | 5 U.S.C. 7342(f)(4) | Non-acceptance would cause embarrassment to donor and U.S. Government.
An Agency Employee | Taser H3 PP6 Sports Watch. Rec'd—6/11/2023. Est. Value—$499.00. Disposition—Destroyed. | 5 U.S.C. 7342(f)(4) | Non-acceptance would cause embarrassment to donor and U.S. Government.
An Agency Employee | Mont Blanc Pen. Rec'd—6/13/2023. Est. Value—$600.00. Disposition—Official Use. | 5 U.S.C. 7342(f)(4) | Non-acceptance would cause embarrassment to donor and U.S. Government.
An Agency Employee | Luminox Watch. Rec'd—6/14/2023. Est. Value—$555.00. Disposition—Destroyed. | 5 U.S.C. 7342(f)(4) | Non-acceptance would cause embarrassment to donor and U.S. Government.
An Agency Employee | Mont Blanc Black Leather Document Case. Rec'd—6/15/2023. Est. Value—$1,652.00. Disposition—Destroyed. | 5 U.S.C. 7342(f)(4) | Non-acceptance would cause embarrassment to donor and U.S. Government.
An Agency Employee | Rolex Air King Model 116900. Rec'd—6/18/2023. Est. Value—$7,450.00. Disposition—Destruction Pending. | 5 U.S.C. 7342(f)(4) | Non-acceptance would cause embarrassment to donor and U.S. Government.
An Agency Employee | Omega Watch. Rec'd—6/18/2023. Est. Value—$3,000.00. Disposition—Destroyed. | 5 U.S.C. 7342(f)(4) | Non-acceptance would cause embarrassment to donor and U.S. Government.
An Agency Employee | Al Grew Woman's Jewelry Set. Rec'd—6/18/2023. Est. Value—$2,000.00. Disposition—Destroyed. | 5 U.S.C. 7342(f)(4) | Non-acceptance would cause embarrassment to donor and U.S. Government.
An Agency Employee | Rolex Model 126300 Oyster DateJust, 41mm, Oystersteel, Green. Rec'd—6/18/2023. Est. Value—$8,050.00. Disposition—Purchase Pending with GSA. | 5 U.S.C. 7342(f)(4) | Non-acceptance would cause embarrassment to donor and U.S. Government.
An Agency Employee | Al Grew Woman's Jewelry Set (Necklace, Bracelet, Ring, Earrings). Rec'd—6/18/2023. Est. Value—$30,000.00. Disposition—Destroyed. | 5 U.S.C. 7342(f)(4) | Non-acceptance would cause embarrassment to donor and U.S. Government.
An Agency Employee | Rado Captain Cook Watch. Rec'd—6/18/2023. Est. Value—$4,000.00. Disposition—Destroyed. | 5 U.S.C. 7342(f)(4) | Non-acceptance would cause embarrassment to donor and U.S. Government.
An Agency Employee | Omega Watch. Rec'd—6/18/2023. Est. Value—$3,000.00. Disposition—Destroyed. | 5 U.S.C. 7342(f)(4) | Non-acceptance would cause embarrassment to donor and U.S. Government.
An Agency Employee | Men's Rolex Watch, Oyster Perpetual—Yacht Master II. Rec'd—6/20/2023. Est. Value—$18,700.00. Disposition—Destroyed. | 5 U.S.C. 7342(f)(4) | Non-acceptance would cause embarrassment to donor and U.S. Government.
An Agency Employee | Van Cleef and Arpels Vintage Alhambra Necklace. Rec'd—6/20/2023. Est. Value—$8,400.00. Disposition—Pending Transfer to GSA. | 5 U.S.C. 7342(f)(4) | Non-acceptance would cause embarrassment to donor and U.S. Government.
An Agency Employee | Rolex, Lady-Datejust, Oyster Oyster steel and Yellow Gold. Rec'd—6/20/2023. Est. Value—$12,500.00. Disposition—Destroyed. | 5 U.S.C. 7342(f)(4) | Non-acceptance would cause embarrassment to donor and U.S. Government.
An Agency Employee | Two Large and Two Medium Size Chocolate Gifts. Rec'd—7/6/2023. Est. Value—$1,400.00. Disposition—Official Use. | 5 U.S.C. 7342(f)(4) | Non-acceptance would cause embarrassment to donor and U.S. Government.
An Agency Employee | Beretta Hand Gun. Rec'd—7/6/2023. Est. Value—$650.00. Disposition—Destroyed. | 5 U.S.C. 7342(f)(4) | Non-acceptance would cause embarrassment to donor and U.S. Government.
An Agency Employee | Louis Vuitton Purse (Speedy). Rec'd—7/6/2023. Est. Value—$1,490.00. Disposition—Pending Purchase Through GSA. | 5 U.S.C. 7342(f)(4) | Non-acceptance would cause embarrassment to donor and U.S. Government.
An Agency Employee | Wooden box with Frankincense, Gift Box with Four Amouage Cologne/Perfumes. Rec'd—7/6/2023. Est. Value—$1,600.00. Disposition—Destruction Pending. | 5 U.S.C. 7342(f)(4) | Non-acceptance would cause embarrassment to donor and U.S. Government.
An Agency Employee | Mont Blanc Pen, Dubai Skyline 3D Wall Art. Rec'd—7/25/2023. Est. Value—$673.56. Disposition—Destruction Pending. | 5 U.S.C. 7342(f)(4) | Non-acceptance would cause embarrassment to donor and U.S. Government.
An Agency Employee | Persian Carpet. Rec'd—9/9/2023. Est. Value—$1,100.00. Disposition—Purchase Pending Through GSA. | 5 U.S.C. 7342(f)(4) | Non-acceptance would cause embarrassment to donor and U.S. Government.
An Agency Employee | Movado Watch. Rec'd—9/26/2023. Est. Value—$1,500.00. Disposition—Destroyed. | 5 U.S.C. 7342(f)(4) | Non-acceptance would cause embarrassment to donor and U.S. Government.
An Agency Employee | Women's Movado Watch. Rec'd—9/26/2023. Est. Value—$1,700.00. Disposition—Destroyed. | 5 U.S.C. 7342(f)(4) | Non-acceptance would cause embarrassment to donor and U.S. Government.
An Agency Employee | Cohiba Cigars Box (10 Cigars). Rec'd—9/29/2023. Est. Value—$950.00. Disposition—Official Use. | 5 U.S.C. 7342(f)(4) | Non-acceptance would cause embarrassment to donor and U.S. Government.
An Agency Employee | Montblanc Writers Edition Homage to Brothers Grimm Limited Edition Rollerball Pen. Rec'd—11/18/2023. Est. Value—$1,000.00. Disposition—Official Use. | 5 U.S.C. 7342(f)(4) | Non-acceptance would cause embarrassment to donor and U.S. Government.
An Agency Employee | Formula One Tickets. Rec'd—11/24/2023. Est. Value—$1,200.00. Disposition—Official Use. | 5 U.S.C. 7342(f)(4) | Non-acceptance would cause embarrassment to donor and U.S. Government.
An Agency Employee | Mont Blanc Leather Belt and Cufflinks. Rec'd—12/3/2023. Est. Value—$490.00. Disposition—Destroyed. | 5 U.S.C. 7342(f)(4) | Non-acceptance would cause embarrassment to donor and U.S. Government.
An Agency Employee | Creed Cologne Set. Rec'd—12/5/2023. Est. Value—$810.00. Disposition—Destroyed. | 5 U.S.C. 7342(f)(4) | Non-acceptance would cause embarrassment to donor and U.S. Government.
An Agency Employee | Hermes Scarf. Rec'd—12/11/2023. Est. Value—$510.00. Disposition—Retained by Protocol. | 5 U.S.C. 7342(f)(4) | Non-acceptance would cause embarrassment to donor and U.S. Government.
An Agency Employee | Hermes Scarf. Rec'd—12/11/2023. Est. Value—$510.00. Disposition—Mission Display. | 5 U.S.C. 7342(f)(4) | Non-acceptance would cause embarrassment to donor and U.S. Government.
An Agency Employee | 30 Yr. Tomatin Scotch. Rec'd—12/14/2023. Est. Value—$500.00. Disposition—Destroyed. | 5 U.S.C. 7342(f)(4) | Non-acceptance would cause embarrassment to donor and U.S. Government.
An Agency Employee | Turntable with Stereo System. Rec'd—12/14/2023. Est. Value—$699.95. Disposition—Pending Purchase Through GSA. | 5 U.S.C. 7342(f)(4) | Non-acceptance would cause embarrassment to donor and U.S. Government.
An Agency Employee | Gift Card. Rec'd—12/14/2023. Est. Value—$654.24. Disposition—Official Use. | 5 U.S.C. 7342(f)(4) | Non-acceptance would cause embarrassment to donor and U.S. Government.
An Agency Employee | Gift Basket with Alcohol and Food. Rec'd—12/17/2023. Est. Value—$1,350.00. Disposition—Official Use. | 5 U.S.C. 7342(f)(4) | Non-acceptance would cause embarrassment to donor and U.S. Government.
An Agency Employee | 12 Gift Baskets (Italian Dinner Gift Basket). Rec'd—12/26/2023. Est. Value—$1,980.00. Disposition—Official Use. | 5 U.S.C. 7342(f)(4) | Non-acceptance would cause embarrassment to donor and U.S. Government.

Agency: Office of the Director of National Intelligence
[Report of Tangible Gifts Furnished by the Office of the Director of National Intelligence]
Name and title of person accepting the gift on behalf of the U.S. Government. | Gift, date of acceptance on behalf of the U.S. Government., estimated value, and current disposition or location | Identity of foreign donor and government | Circumstances justifying acceptance
An Agency Employee | Indian Cashmere Silk Rug. Rec'd—4/12/2023. Est. Value—$500.00. Disposition—Official Use. | 5 U.S.C. 7342(f)(4) | Non-acceptance would cause embarrassment to donor and U.S. Government.
An Agency Employee | Ballantine's Blended Scotch Whiskey in Case. Rec'd—12/19/2023. Est. Value—$500.00. Disposition—Official Use. | 5 U.S.C. 7342(f)(4) | Non-acceptance would cause embarrassment to donor and U.S. Government.
An Agency Employee | Ballantine's Blended Scotch Whiskey in Case. Rec'd—12/29/2023. Est. Value—$500.00. Disposition—Official Use. | 5 U.S.C. 7342(f)(4) | Non-acceptance would cause embarrassment to donor and U.S. Government.

Agency: Department of Defense
[Report of Tangible Gifts Furnished by the Department of the Defense]
Name and title of person accepting the gift on behalf of the U.S. Government. | Gift, date of acceptance on behalf of the U.S. Government., estimated value, and current disposition or location | Identity of foreign donor and government | Circumstances justifying acceptance
The Honorable Lloyd J. Austin, Secretary of Defense | South Seal Pearl Brooch Pendant, Silvertone Nacre in Presentation box, Scarf by Raffaella, Photo Montage. Rec'd—2/2/2023. Est. Value—$1,390.00. Disposition—Pending Transfer to GSA. | His Excellency Carlito Galvez Jr., Secretary of Defense of the Republic of the Philippines | Non-acceptance would cause embarrassment to donor and U.S. Government.
The Honorable Lloyd J. Austin, Secretary of Defense | Knife in Bespoke Elliptical Walnut Presentation Box. Rec'd—2/9/2023. Est. Value—$1,900.00. Disposition—Pending Transfer to GSA. | His Excellency Juansher Burchuladze, Minister of Defense of Georgia | Non-acceptance would cause embarrassment to donor and U.S. Government.
The Honorable Lloyd J. Austin, Secretary of Defense | Letter Box and Envelope Opener. Rec'd—3/5/2023. Est. Value—$1,700.00. Disposition—Pending Transfer to GSA. | His Majesty King Abdullah II ibn Al Hussein, King of the Hashemite Kingdom of Jordan | Non-acceptance would cause embarrassment to donor and U.S. Government.
The Honorable Lloyd J. Austin, Secretary of Defense | “ROK-U.S.” Book, Framed Collage of Wine Photos. Rec'd—3/8/2023. Est. Value—$720.00. Disposition—Pending Transfer to GSA. | His Excellency Jong-Sup Lee, Minister of Defense of the Republic of South Korea | Non-acceptance would cause embarrassment to donor and U.S. Government.
The Honorable Lloyd J. Austin, Secretary of Defense | Plate in Presentation Box, Egyptian Statue. Rec'd—4/5/2023. Est. Value—$1,080.00. Disposition—Pending Transfer to GSA. | His Excellency General Mohamed Zaki Mohamed, Minister of Defense of the Republic of Egypt | Non-acceptance would cause embarrassment to donor and U.S. Government.
The Honorable Lloyd J. Austin, Secretary of Defense | Plate in Bespoke Presentation Box. Rec'd—9/14/2023. Est. Value—$1,700.00. Disposition—Pending Transfer to GSA. | His Royal Highness Prince Salman bin Hamad Al Khalifa, Crown Prince and Prime Minister of the Kingdom of Bahrain | Non-acceptance would cause embarrassment to donor and U.S. Government.
The Honorable Lloyd J. Austin, Secretary of Defense | Pistol in Bespoke Presentation Box. Rec'd—11/16/2023. Est. Value—$2,560.00. Disposition—Pending Transfer to GSA. | His Excellency Prabowo Subianto, Minister of Defense of the Republic of Indonesia | Non-acceptance would cause embarrassment to donor and U.S. Government.
General Mark A. Milley, Chairman | Silver Pitcher in Presentation Box, Plaque. Rec'd—2/28/2023. Est. Value—$610.00. Disposition—Pending Transfer to GSA. | Lt. General Osama Asker, Chief of Staff of the Armed Forces of the Arab Republic of Egypt | Non-acceptance would cause embarrassment to donor and U.S. Government.
General Mark A. Milley, Chairman | Moroccan Rug, Twelve Glass Bottles of Assorted Oils in Presentation Box. Rec'd—3/4/2023. Est. Value—$910.00. Disposition—Pending Transfer to GSA. | His Excellency Nasser Bourita, Minister of Foreign Affairs of Morocco | Non-acceptance would cause embarrassment to donor and U.S. Government.
General Mark A. Milley, Chairman | 2 Plaques, Skincare Products in Presentation Box. Rec'd—3/14/2023. Est. Value—$1,560.00. Disposition—Plaques Retained for Official Display, Skincare Pending Transfer to GSA. | Belkhir El Farouk, Inspector General, Chief of Defense of Morocco | Non-acceptance would cause embarrassment to donor and U.S. Government.
General Mark A. Milley, Chairman | Sandalwood Carving of Garuda Whisnu Kencana, 2 Silk Brocade Batik Textiles. Rec'd—6/21/2023. Est. Value—$675.00. Disposition—Pending Transfer to GSA. | Yudo Margono, Chief of Defense of the Republic Indonesia | Non-acceptance would cause embarrassment to donor and U.S. Government.
Mr. Daniel Erikson, Deputy Assistant Secretary of Defense for the Western Hemisphere | Jade Face Sculpture in Presentation Box. Rec'd—4/4/2023. Est. Value—$970.00. Disposition—Pending Transfer to GSA. | The Government of Guatemala | Non-acceptance would cause embarrassment to donor and U.S. Government.
Ms. Heidi Shyu, Under Secretary of Defense for Research & Engineering | Scarf, Writing Set. Rec'd—5/11/2023. Est. Value—$830.00. Disposition—Official Display. | Lt. General Luciano Portolano, Secretary General of Defense and National Armaments Director of the Italian Republic | Non-acceptance would cause embarrassment to donor and U.S. Government.
Mr. Tyler Nocita, Iraq Country Director for Deputy Assistant Secretary of Defense Middle East | Harp Miniature Replica. Rec'd—7/6/2023. Est. Value—$690.00. Disposition—Pending Transfer to GSA. | His Excellency Nazar Al Khirullah, Ambassador of the Republic of Iraq to the United States | Non-acceptance would cause embarrassment to donor and U.S. Government.
Lieutenant General Scott Berrier, Director, Defense Intelligence Agency | Fighting Stick. Rec'd—7/12/2023. Est. Value—$675.00. Disposition—Pending Transfer to GSA. | Retired Air Commodore Tim Walshe, Chief of Defense Intelligence of New Zealand | Non-acceptance would cause embarrassment to donor and U.S. Government.
Mr. Ronald Moultrie, Under Secretary of Defense for Intelligence and Security | Boot, Hat Rec'd—7/16/2023. Est. Value—$770.00. Disposition—Purchase Completed Through GSA. | Lt. General Gavan Reynolds, Chief of Defense Intelligence of the Commonwealth of Australia | Non-acceptance would cause embarrassment to donor and U.S. Government.
Ms. Celeste Wallander, Assistant Secretary of Defense for International Security Affairs | Painting. Rec'd—7/25/2023. Est. Value—$550.00. Disposition—Pending Transfer to GSA. | His Excellency Hanena Ould Sidi, Minister of Defense of the Islamic Republic of Mauritania | Non-acceptance would cause embarrassment to donor and U.S. Government.
Mr. Colin Khal, Under Secretary of Defense for Policy | Gold Armenian Coin. Rec'd—9/8/2023. Est. Value—$870.00. Disposition—Pending Transfer to GSA. | His Excellency Suren Papikyan, Minister of Defense of the Republic of Armenia | Non-acceptance would cause embarrassment to donor and U.S. Government.
Ms. Melissa Dalton, Assistant Secretary of Defense for Homeland Defense & Hemisphere Affairs | Leather Tote Bag, Aluminum Round Tray. Rec'd—11/4/2023 Est. Value—$630.00. Disposition—Pending Transfer to GSA. | His Excellency Elias Antonio Melgar, Vice Minister of Defense of the Republic of Honduras | Non-acceptance would cause embarrassment to donor and U.S. Government.

Agency: Department of the Air Force
[Report of Tangible Gifts Furnished by the Department of Air Force]
Name and title of person accepting the gift on behalf of the U.S. Government | Gift, date of acceptance on behalf of the U.S. Government, estimated value, and current disposition or location | Identity of foreign donor and government | Circumstances justifying acceptance
Major General Wendul G. Hagler | Tissot Seastar Analog Men's Watch. Rec'd—Unknown Est. Value—$1,025.00. Disposition—Transferred to GSA. | Unknown | Non-acceptance would cause embarrassment to donor and U.S. Government.
Brigadier General Richard J. Quirk | Tissot Men's Watch. Rec'd—Unknown Est. Value—$875.00. Disposition—Transferred to GSA. | Unknown | Non-acceptance would cause embarrassment to donor and U.S. Government.
Major General Wendul G. Hagler | Tudor 79030B Men's Watch. Rec'd—Unknown Est. Value—$2,545.00. Disposition—Transferred to GSA. | Unknown | Non-acceptance would cause embarrassment to donor and U.S. Government.
Major General Wendul G. Hagler | Tudor 79580 Watch. Rec'd—Unknown Est. Value—$2,325.00. Disposition—Transferred to GSA. | Unknown | Non-acceptance would cause embarrassment to donor and U.S. Government.
Brigadier General Richard J. Quirk | Tumi Harrison Sycamore Briefcase. Rec'd—Unknown Est. Value—$750.00. Disposition—Transferred to GSA. | Unknown | Non-acceptance would cause embarrassment to donor and U.S. Government.
General Michael E. Kurilla | Movado 800 Series Watch. Rec'd—Unknown Est. Value—$1,195.00. Disposition—Transferred to GSA. | Unknown | Non-acceptance would cause embarrassment to donor and U.S. Government.
Brigadier General Richard J. Quirk | Remarkable 2 Bundle (Tablet, Marker, Case). Rec'd—Unknown Est. Value—$557.00. Disposition—Transferred to GSA. | Unknown | Non-acceptance would cause embarrassment to donor and U.S. Government.

Agency: Department of Navy
[Report of Tangible Gifts Furnished by the Department of Navy]
Name and title of person accepting the gift on behalf of the U.S. Government | Gift, date of acceptance on behalf of the U.S. Government, estimated value, and current disposition or location | Identity of foreign donor and government | Circumstances justifying acceptance
Admiral James Caldwell, Director of Navy Nuclear Propulsion | Brass Cylinder, Former Artillery Shell with Wooden Cap. Rec'd—6/9/2023. Est. Value—$1,600.00. Disposition—Official Use (Display). | Admiral Sir Tony Radakin, Chief of Defense Staff to the United Kingdom of Great Britain and Northern Ireland? | Non-acceptance would cause embarrassment to donor and U.S. Government.

Agency: Environmental Protection Agency
[Report of Tangible Gifts Furnished by the Environmental Protection Agency]
Name and title of person accepting the gift on behalf of the U.S. Government | Gift, date of acceptance on behalf of the U.S. Government, estimated value, and current disposition or location | Identity of foreign donor and government | Circumstances justifying acceptance
Ms. Jane Bare, Chemical Engineer, Office of Research & Development, Environmental Solutions & Emergency Response, Land Remediation & Technology Division, Environmental Decision Analytics Branch | GIFT OF TRAVEL: Reimbursement for Travel Expenses to Copenhagen, Denmark. Est. Value—$1,277.00. Rec'd—5/28/2023-6/3/2023. | United Nations Environment Programme | Non-acceptance would cause embarrassment to donor and U.S. Government.
Ms. Jane Bare, Chemical Engineer, Office of Research & Development, Environmental Solutions & Emergency Response, Land Remediation & Technology Division, Environmental Decision Analytics Branch | GIFT OF TRAVEL: Reimbursement for Travel Expenses to Copenhagen, Denmark. Est. Value—$1,277.00. Rec'd—5/28/2023-6/3/2023. | United Nations Environment Programme | Non-acceptance would cause embarrassment to donor and U.S. Government.
Mr. Richard Wormell, Associate Director, Office of Chemical Safety and Pollution Prevention, Office of Program Support | GIFT OF TRAVEL: Reimbursement for Travel Expenses to Geneva, Switzerland. Est. Value—$1,220.00. Rec'd—11/3/2023-11/11/2023. | United Nations Food and Agriculture Organization | Non-acceptance would cause embarrassment to donor and U.S. Government.
Ms. Amy Porter, Senior International Advisor, Office of Enforcement and Compliance Assurance | GIFT OF TRAVEL: Reimbursement for Travel Expenses to Santiago, Chile. Est. Value—$570.00. Rec'd—11/4/2023-11/11/2023. | Chilean National Agency for Research and Development (ANID) | Non-acceptance would cause embarrassment to donor and U.S. Government.
Mr. Timothy Epp, Associate General Counsel, Office of General Counsel, National FOIA (Freedom of Information Act) Office | GIFT OF TRAVEL: Reimbursement for Travel Expenses to Nairobi, Kenya. Est. Value—$1,500.00. Rec'd—11/10/2023-11/15/2023. | United Nations Environment Programme | Non-acceptance would cause embarrassment to donor and U.S. Government.
Ms. Amy Porter, Senior International Advisor, Office of Enforcement and Compliance Assurance | GIFT OF TRAVEL: Reimbursement for Travel Expenses to Mexico City. Est. Value—$552.00. Rec'd—11/27/2023-11/30/2023. | InterAmerican Development Bank | Non-acceptance would cause embarrassment to donor and U.S. Government.

Agency: U.S. Government Accountability Office
[Report of Tangible Gifts Furnished by the U.S. Government Accountability Office]
Name and title of person accepting the gift on behalf of the U.S. Government | Gift, date of acceptance on behalf of the U.S. Government, estimated value, and current disposition or location | Identity of foreign donor and government | Circumstances justifying acceptance
The Honorable Gene Dodaro, Comptroller General of the United States | Loro Piana Gloves, XL. Rec'd—1/5/2023. Est. Value—$675.00. Disposition—On Display for Official Use. | Dr. Al Anghari, Auditor General of the Kingdom of Saudi Arabia | Non-acceptance would cause embarrassment to donor and U.S. Government.
Mrs. Joan M. Dodaro, Spouse of the Comptroller General of the United States | Chloe Gloves, XL. Rec'd—1/5/2023. Est. Value—$580.00. Disposition—On Display for Official Use. | Dr. Al Anghari, Auditor General of the Kingdom of Saudi Arabia | Non-acceptance would cause embarrassment to donor and U.S. Government.

Agency: Federal Communications Commission
[Report of Tangible Gifts Furnished by the Federal Communications Commission]
Name and title of person accepting the gift on behalf of the U.S. Government | Gift, date of acceptance on behalf of the U.S. Government, estimated value, and current disposition or location | Identity of foreign donor and government | Circumstances justifying acceptance
Mr. Jared Carlson, Supervisory Attorney Advisor, Office of International Affairs | GIFT OF TRAVEL: Travel Expenses to Bogota, Colombia. Est. Value—$640.00. Rec'd—9/3/2023-9/9/2023. | Comision de Regulacion de Comunicaciones (Communications Regulatory Commission), Republic of Colombia | Non-acceptance would cause embarrassment to donor and U.S. Government.

Agency: Federal Reserve System
[Report of Tangible Gifts Furnished by the Federal Reserve System]
Name and title of person accepting the gift on behalf of the U.S. Government | Gift, date of acceptance on behalf of the U.S. Government, estimated value, and current disposition or location | Identity of foreign donor and government | Circumstances justifying acceptance
The Honorable Philip N. Jefferson, Vice Chair of the Board of Governors of the Federal Reserve System | Sadeli Wooden Box, Filigree Wood Craft Art Replica of Sidi Saiyyed Mosque, Cotton Stole with Soof Embroidery, Ikat Print Briefcase with Notebook, Pencils, Ballpoint pen, and Magnet, USB Flash Drive, Embroidery Wallpiece, A Set of Four Agate Coasters, Semi-Ikat Stole, “Tree of Life” Rogan Art Textile in Wooden Frame. Rec'd—7/17/2023. Est. Value—$602.10. Disposition—Pending Completion of Purchase through GSA. | Government of India, President of the G20 | Non-acceptance would cause embarrassment to donor and U.S. Government.

Agency: Department of the Treasury
[Report of Tangible Gifts Furnished by the Department of the Treasury]
Name and title of person accepting the gift on behalf of the U.S. Government | Gift, date of acceptance on behalf of the U.S. Government, estimated value, and current disposition or location | Identity of foreign donor and government | Circumstances justifying acceptance
The Honorable Janet Yellen, Secretary of the Treasury of the United States | Framed Mixed Media Painting of Senegalese Woman. Rec'd—7/18/2023. Est. Value—$501.37. Disposition—Transferred to GSA. | His Excellency Macky Sall, President of the Republic of Senegal | Non-acceptance would cause embarrassment to donor and U.S. Government.
The Honorable Janet Yellen, Secretary of the Treasury of the United States | Framed Artwork. Rec'd—7/21/2023. Est. Value—$2,000.00. Disposition—Transferred to GSA. | His Excellency Vuong Dinh Hue, Chairman of National Assembly of the Socialist Republic of Vietnam | Non-acceptance would cause embarrassment to donor and U.S. Government.
The Honorable Adewale Adeyemo, Deputy Secretary of the Treasury of the United States | Set of Four Commemorative Coins. Rec'd—4/11/2023. Est. Value—$599.00. Disposition—Transferred to GSA. | His Excellency Mher Grigoryan, Deputy Prime Minister of the Republic of Armenia | Non-acceptance would cause embarrassment to donor and U.S. Government.
Mr. Erick Placencia, Intelligence Analyst, Department of the Treasury | Bottle of Mont Blanc Cologne, Mont Blanc Starwalker Resin Pen, Mont Blanc Sketchbook, Monte Blanc Key Fob, Mont Blanc Leather Card Holder, and a Box of Figs. Rec'd—11/29/2023. Est. Value—$1,117.95. Disposition—Pending transfer to GSA. | The Government of United Arab Emirates | Non-acceptance would cause embarrassment to donor and U.S. Government.
Ms. Jaclyn Cahan, Senior Advisor, Under Secretary Terrorism and Financial Intelligence | GIFT OF TRAVEL: Rec'd—9/5/2023. Travel and Accommodations for Cyber Conference in Poland. Est. Value—$1,095.00. Rec'd—9/5/2023. | Mr. Michał Pukaluk, Director for Digital Policy Department at the Chancellery of the Prime Minister of the Republic of Poland | Non-acceptance would cause embarrassment to donor and U.S. Government.
Ms. Emily Williams, Enforcement Officer, Office of Foreign Assets Control | GIFT OF TRAVEL: Travel and Accommodation Rome, Italy for Training Event. Est. Value—$2,166.00. Rec'd—11/5/2023. | Brigadier General Salvatore Russo, Italian Guardia di Finanza of the Italian Republic | Non-acceptance would cause embarrassment.
Ms. Magdalena Martinez, Investigative Specialist (Global) Global Investigations Division, Financial Crimes Enforcement Network | GIFT OF TRAVEL: Travel and Accommodation Rome, Italy for Training Event. Est. Value—$2,707.00. Rec'd—11/5/2023. | Major General Francesco Mattana, Guardia di Finanza's Economic and Financial Police of the Italian Republic | Non-acceptance would cause embarrassment.

Agency: U.S. Agency for International Development
[Report of Tangible Gifts Furnished by the U.S. Agency for International Development]
Name and title of person accepting the gift on behalf of the U.S. Government | Gift, date of acceptance on behalf of the U.S. Government, estimated value, and current disposition or location | Identity of foreign donor and government | Circumstances justifying acceptance
Ms. Nidia Melisa Portillo, Foreign Service National | GIFT OF TRAVEL: Registration Fee, Transportation, Lodging, and Meals. Est. Value—$3,510.00. Rec'd—2/2/2023. | Agency for International Development Cooperation in the Ministry of Foreign Affairs of the State of Israel | Non-acceptance would cause embarrassment to donor and U.S. Government.
Mr. James Kovar, Foreign Service Officer | GIFT OF TRAVEL: Air Travel. Est. Value—$5,798.29. Rec'd—2/23-24/2023. | International Organization for Migration (IOM) | Non-acceptance would cause embarrassment to donor and U.S. Government.

Agency: U.S. House of Representatives
[Report of Gifts of Travel Furnished by the U.S. House of Representatives]
Name and title of person accepting the gift on behalf of the U.S. Government | Gift, date of acceptance on behalf of the U.S. Government, estimated value, and current disposition or location | Identity of foreign donor and government | Circumstances justifying acceptance
The Honorable Amata Radewagen, Member of Congress | GIFT OF TRAVEL: Transportation and Lodging. Rec'd—5/30/2023-6/1/2023. | Her Excellency Fiame Naomi Mata'afa, Prime Minister of the Independent State of Samoa | Non-acceptance would cause embarrassment to donor and U.S. Government.
The Honorable Rosa DeLauro, Member of Congress | GIFT OF TRAVEL: Transportation in Spain. Rec'd—11/18/2023-11/22/2023. | Mr. Ernesto Gasco, High Commissioner Against Child Poverty in Spain | Non-acceptance would cause embarrassment.
Ms. Ola Foster, District Scheduler/Manager/Executive Assistant | GIFT OF TRAVEL: Transportation and Lodging while in Samoa. Rec'd—5/30/2023-6/1/2. | Government of the Independent State of Samoa | Non-acceptance would cause embarrassment.
Mr. David Winfrey, Legislative Director, United States House of Representatives | GIFT OF TRAVEL: Lodging and Transportation in Berlin. Rec'd—6/30/2023-7/9/2023. | The Parliament of the Federal Republic of Germany | Non-acceptance would cause embarrassment.
Mr. Daniel Chulak, Digital Manager/Legislative Aide, United States House of Representatives | GIFT OF TRAVEL: Lodging and Transportation in Berlin. Rec'd—6/30/2023-7/9/2023. | The Parliament of the Federal Republic of Germany | Non-acceptance would cause embarrassment.
Ms. Julia Cook, Assistant Parliamentarian, United States House of Representatives | GIFT OF TRAVEL: Lodging and Transportation in Berlin. Rec'd—6/30/2023-7/9/2023. | The Parliament of the Federal Republic of Germany | Non-acceptance would cause embarrassment.
Ms. Jasmine Kemp, Deputy Chief of Staff, United States House of Representatives | GIFT OF TRAVEL: Lodging and Transportation in Berlin. Rec'd—6/30/2023-7/9/2023. | The Parliament of the Federal Republic of Germany | Non-acceptance would cause embarrassment.
Mr. Nadav Konforty, Special Assistant, United States House of Representatives | GIFT OF TRAVEL: Lodging and Transportation in Berlin. Rec'd—6/30/2023-7/9/2023. | The Parliament of the Federal Republic of Germany | Non-acceptance would cause embarrassment.
Ms. Emily Silverberg, Legislative Director, United States House of Representatives | GIFT OF TRAVEL: Lodging and Transportation in Berlin. Rec'd—6/30/2023-7/9/2023. | The Parliament of the Federal Republic of Germany | Non-acceptance would cause embarrassment.
Mr. Christopher Bien, Director of Floor Operations, United States House of Representatives | GIFT OF TRAVEL: Lodging and Transportation in Berlin. Rec'd—7/1/2023-7/9/2023. | The Parliament of the Federal Republic of Germany | Non-acceptance would cause embarrassment.

Agency: U.S. Senate
[Report of Tangible Gifts Furnished by the U.S. Senate]
Name and title of person accepting the gift on behalf of the U.S. Government | Gift, date of acceptance on behalf of the U.S. Government, estimated value, and current disposition or location | Identity of foreign donor and government | Circumstances justifying acceptance
The Honorable Dan Sullivan, United States Senator | Two Titanium Tumblers. Rec'd—11/14/2022. Est. Value—$352.00. Disposition—Secretary of the Senate. | His Excellency Koji Tomita, Ambassador Extraordinary and Plenipotentiary of Japan to the United States | Non-acceptance would cause embarrassment to donor and U.S. Government.
The Honorable Chris Van Hollen, United States Senator | Leather Briefcase. Rec'd—12/12/2022. Est. Value—$102.00. Disposition—Secretary of the Senate. | His Excellency Ntsokoane Samuel Matekane, Prime Minister of the Kingdom of Lesotho | Non-acceptance would cause embarrassment to donor and U.S. Government.
The Honorable Mark Kelly, United States Senator | Moroccan Rug, Moroccan Oil Set, Silver Desktop Supply Set. Rec'd—1/30/2023. Est. Value—$1,150.00. Disposition—Secretary of the Senate. | His Excellency Nasser Bourita, Minister of Foreign Affairs and International Cooperation of the Kingdom of Morocco | Non-acceptance would cause embarrassment to donor and U.S. Government.
The Honorable James Lankford, United States Senator | Moroccan Rug, Moroccan Perfume Set. Rec'd—1/30/2023. Est. Value—$550.00. Disposition—Secretary of the Senate. | His Excellency Nasser Bourita, Minister of Foreign Affairs and International Cooperation of the Kingdom of Morocco | Non-acceptance would cause embarrassment to donor and U.S. Government.
The Honorable Dan Sullivan, United States Senator | Moroccan Rug, Desk Supply Set, Moroccan Perfume Set. Rec'd—1/30/2023. Est. Value—$700.00. Disposition—Secretary of the Senate. | His Excellency Nasser Bourita, Minister of Foreign Affairs and International Cooperation of the Kingdom of Morocco | Non-acceptance would cause embarrassment to donor and U.S. Government.
The Honorable Jack Reed, United States Senator | Handcrafted Table. Rec'd—2/23/2023. Est. Value—$152.79. Disposition—Secretary of the Senate. | Lt. General Nadeem Anjum, Director-General of Inter-Services Intelligence of Islamic Republic of Pakistan | Non-acceptance would cause embarrassment to donor and U.S. Government.
The Honorable Mark R. Warner, United States Senator | Sillanwali Handcrafted Side Table. Rec'd—2/23/2023. Est. Value—$120.00. Disposition—Secretary of the Senate. | Lt. General Nadeem Anjum, Director-General of Inter-Services Intelligence of Islamic Republic of Pakistan | Non-acceptance would cause embarrassment to donor and U.S. Government.
The Honorable Lindsey Graham, United States Senator | Yellow Pattern Rug. Rec'd—2/27/2023. Est. Value—$150.00 Disposition—Secretary of the Senate. | His Excellency Nasser Bourita, Minister of Foreign Affairs and International Cooperation of the Kingdom of Morocco | Non-acceptance would cause embarrassment to donor and U.S. Government.
The Honorable Christopher A. Coons, United States Senator | Moroccan Rug. Rec'd—2/27/2023. Est. Value—$400.00. Disposition—Secretary of the Senate. | His Excellency Nasser Bourita, Minister of Foreign Affairs and International Cooperation of the Kingdom of Morocco | Non-acceptance would cause embarrassment to donor and U.S. Government.
The Honorable Martin Heinrich, United States Senator | Moroccan Rug. Rec'd—2/27/2023. Est. Value—$500.00. Disposition—Secretary of the Senate. | His Excellency Nasser Bourita, Minister of Foreign Affairs and International Cooperation of the Kingdom of Morocco | Non-acceptance would cause embarrassment to donor and U.S. Government.
The Honorable Mark Kelly, United States Senator | Moroccan Rug, Desk Supply Set. Rec'd—3/7/2023. Est. Value—$550.00. Disposition—Secretary of the Senate. | His Excellency Nasser Bourita, Minister of Foreign Affairs and International Cooperation of the Kingdom of Morocco | Non-acceptance would cause embarrassment to donor and U.S. Government.
The Honorable Mitch McConnell, United States Senator | Jali Work Box. Rec'd—6/23/2023. Est. Value—$125.00. Disposition—Secretary of the Senate. | His Excellency Narendra Modi, Prime Minister of the Republic of India | Non-acceptance would cause embarrassment to donor and U.S. Government.
The Honorable Charles E. Schumer, United States Senator | Camel Bone Box. Rec'd—6/29/2023. Est. Value—$125.00. Disposition—Secretary of the Senate. | His Excellency Narendra Modi, Prime Minister of the Republic of India | Non-acceptance would cause embarrassment to donor and U.S. Government.
The Honorable John Cornyn, United States Senator | Tea Set. Rec'd—6/30/2023. Est. Value—$225.00. Disposition—Secretary of the Senate. | His Excellency Hakan Fidan, Minister of Foreign Affairs for the Republic of Turkiye | Non-acceptance would cause embarrassment to donor and U.S. Government.
The Honorable Robert Menendez, United States Senator | Pottery Gift Set. Rec'd—7/20/2023. Est. Value—$399.00. Disposition—Secretary of the Senate. | Mr. Hans Chiao, Deputy Director, Taipei Economic and Cultural Representative Office in the United States | Non-acceptance would cause embarrassment to donor and U.S. Government.
The Honorable Robert Menendez, United States Senator | Tea Set. Rec'd—7/20/2023. Est. Value—$138.00. Disposition—Secretary of the Senate. | Mr. Sherzon Rikhsiboev, Attache from the Embassy of the Republic of Uzbekistan to the United States | Non-acceptance would cause embarrassment to donor and U.S. Government.
The Honorable Robert Menendez, United States Senator | Daily Routine Set. Rec'd—7/20/2023. Est. Value—$130.00. Disposition—Secretary of the Senate. | Rep. Kim Gi-Hyeon, Leader of the Korean People Party, Republic of Korea | Non-acceptance would cause embarrassment to donor and U.S. Government.
The Honorable Robert Menendez, United States Senator | Spoon and Chopsticks Set. Rec'd—7/20/2023. Est. Value—$110.00. Disposition—Secretary of the Senate. | Rep. Kim Gi-Hyeon, Leader of the Korean People Party, Republic of Korea | Non-acceptance would cause embarrassment to donor and U.S. Government.
The Honorable Robert Menendez, United States Senator | Pottery. Rec'd—7/27/2023. Est. Value—$158.00. Disposition—Secretary of the Senate. | His Excellency Minister Toshimitsu Motegi, Secretary General of the Liberal Democratic Party of Japan | Non-acceptance would cause embarrassment to donor and U.S. Government.
The Honorable Christopher A. Coons, United States Senator | Wooden Box of Chocolates. Rec'd—10/21/2023. Est. Value—$203.00. Disposition—Secretary of the Senate. | His Royal Highness Prince Mohammed bin Salman bin Abdulaziz Al Saud, Crown Prince and Prime Minister of the Kingdom of Saudi Arabia | Non-acceptance would cause embarrassment to donor and U.S. Government.
The Honorable Marco Rubio, United States Senator | GIFT OF TRAVEL: Transportation within Ecuador via Government Aircraft. Rec'd—2/23/2023. | His Excellency Guillermo Lasso, President of the Republic of Ecuador | Non-acceptance would cause embarrassment to donor and U.S. Government.
Hon. Samantha Roberts, Minority General Counsel, Senate Select Committee on Intelligence | GIFT OF TRAVEL: Transportation within Ecuador via Government Aircraft. Rec'd—2/23/2023. | His Excellency Guillermo Lasso, President of the Republic of Ecuador | Non-acceptance would cause embarrassment to donor and U.S. Government.
Hon. Viviana Bovo, Senior Advisor for Western Hemisphere Affairs, Office of Senator Marco Rubio | GIFT OF TRAVEL: Transportation within Ecuador via Government Aircraft. Rec'd—2/23/2023. | His Excellency Guillermo Lasso, President of the Republic of Ecuador | Non-acceptance would cause embarrassment to donor and U.S. Government.
Hon. Deanna Segall, Legislative Aide, Office of Senator Dianne Feinstein | GIFT OF TRAVEL: Local Transportation within Germany, Lodging, and Meals. Rec'd—7/1/2023-7/9/2023. | Hon? Merve Dikme, International Relations Staff—International Exchange Programmes, Federal Republic of Germany | Non-acceptance would cause embarrassment to donor and U.S. Government.
Hon. Asna Ashfaq, Legislative Aide, Office of Senator Jon Ossoff | GIFT OF TRAVEL: Local Transportation within the Republic of Korea, Lodging, and Meals. Rec'd—6/23/2023-8/2/2023. | Committee on Foreign Affairs, Trade, and Unification, The Republic of Korea | Non-acceptance would cause embarrassment to donor and U.S. Government.

Agency: U.S. Commodity Futures Trading Commission (CFTC)
[Report of Tangible Gifts Furnished by the U.S. Commodity Futures Trading Commission]
Name and title of person accepting the gift on behalf of the U.S. Government | Gift, date of acceptance on behalf of the U.S. Government, estimated value, and current disposition or location | Identity of foreign donor and government | Circumstances justifying acceptance
The Honorable Caroline D. Pham, Commissioner, Commodity Futures Trading Commission | Complimentary “Speaker” pass to Abu Dhabi Finance Week 2023. Rec'd—11/29/2023-11/30/2023. Est. Value—$5,000.00. | Abu Dhabi Global Market (ADGM) | Non-acceptance would cause embarrassment to donor and U.S. Government.
The Honorable Caroline D. Pham, Commissioner, Commodity Futures Trading Commission | Complimentary “Delegate” pass to Abu Dhabi Finance Week 2023. Rec'd—11/29/2023-11/30/2023. Est. Value—$500.00. | Abu Dhabi Global Market (ADGM) | Non-acceptance would cause embarrassment to donor and U.S. Government.

Agency: Administrative Office of the United States Courts
[Report of Tangible Gifts Furnished by theAdministrative Office of the United States Courts]
Name and title of person accepting the gift on behalf of the U.S. Government | Gift, date of acceptance on behalf of the U.S. Government, estimated value, and current disposition or location | Identity of foreign donor and government | Circumstances justifying acceptance
The Honorable John G. Roberts, Jr., Chief Justice of the United States | GIFT OF TRAVEL: Lodging (3 Nights). Est. $2,387.00. Rec'd—9/6/2023-9/9/2023. | Supreme Court of Canada | Non-acceptance would cause embarrassment.
The Honorable Elena Kagan, Associate Justice of the Supreme Court of the United States | GIFT OF TRAVEL: Lodging (3 Nights). Est. $1,207.00. Rec'd—9/6/2023-9/9/2023. | Supreme Court of Canada | Non-acceptance would cause embarrassment.
The Honorable Stephen G. Breyer (Retired), Associate Justice of the Supreme Court of the United States | GIFT OF TRAVEL: Lodging (3 Nights). Est. $808.00. Rec'd—9/6/2023-9/9/2023. | Supreme Court of Canada | Non-acceptance would cause embarrassment.
The Honorable Robert M. Dow, Jr., Counselor to the Chief Justice | GIFT OF TRAVEL: Lodging (3 Nights). Est. $1,207.00. Rec'd—9/6/2023-9/9/2023. | Supreme Court of Canada | Non-acceptance would cause embarrassment.

[FR Doc. 2024-31509 Filed 1-2-25; 8:45 am]

BILLING CODE 4710-20-P